DEPARTMENT OF HOMELAND SECURITY

Federal Emergency Management Agency

[Docket ID FEMA-2020-0002; Internal Agency Docket No. FEMA-B-2008]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Arapahoe | City of Aurora (19-08-0550P). | The Honorable Bob LeGare, Mayor, City of Aurora, 15151 East Alameda Parkway, Aurora, CO 80012. | Engineering Department, 15151 East Alameda Parkway, Aurora, CO 80012. | https://msc.fema.gov/portal/advanceSearch. | May 1, 2020 | 080002
Arapahoe | City of Aurora (19-08-0618P). | The Honorable Bob LeGare, Mayor, City of Aurora, 15151 East Alameda Parkway, Aurora, CO 80012. | Engineering Department, 15151 East Alameda Parkway, Aurora, CO 80012. | https://msc.fema.gov/portal/advanceSearch. | May 15, 2020 | 080002
Arapahoe | City of Centennial (19-08-0550P). | The Honorable Stephanie Piko, Mayor, City of Centennial, 13133 East Arapahoe Road, Centennial, CO 80112. | Southeast Metro Stormwater Authority, 76 Inverness Drive East, Suite A, Englewood, CO 80112. | https://msc.fema.gov/portal/advanceSearch. | May 1, 2020 | 080315
Arapahoe | City of Centennial (19-08-0618P). | The Honorable Stephanie Piko, Mayor, City of Centennial, 13133 East Arapahoe Road, Centennial, CO 80112. | Southeast Metro Stormwater Authority, 76 Inverness Drive East, Suite A, Englewood, CO 80112. | https://msc.fema.gov/portal/advanceSearch. | May 15, 2020 | 080315
Arapahoe | Unincorporated areas of Arapahoe County (19-08-0550P). | The Honorable Jeff Baker, Chairman, Arapahoe County Board of Commissioners, 5334 South Prince Street, Littleton, CO 80120. | Arapahoe County Public Works and Development Department, 6924 South Lima Street, Centennial, CO 80112. | https://msc.fema.gov/portal/advanceSearch. | May 1, 2020 | 080011
Arapahoe | Unincorporated areas of Arapahoe County (19-08-0618P). | The Honorable Jeff Baker, Chairman, Arapahoe County Board of Commissioners, 5334 South Prince Street, Littleton, CO 80120. | Arapahoe County Public Works and Development Department, 6924 South Lima Street, Centennial, CO 80112. | https://msc.fema.gov/portal/advanceSearch. | May 15, 2020 | 080011
Douglas | Unincorporated areas of Douglas County (19-08-0888P). | The Honorable Roger A. Partridge, Chairman, Douglas County Board of Commissioners, 100 3rd Street, Castle Rock, CO 80104. | Public Works Engineering Division, 100 3rd Street, Castle Rock, CO 80104. | https://msc.fema.gov/portal/advanceSearch. | May 15, 2020 | 080049
Connecticut: Fairfield | City of Stamford (19-01-1380P). | The Honorable David Martin, Mayor, City of Stamford, 888 Washington Boulevard, Stamford, CT 06901. | City Hall, 888 Washington Boulevard, Stamford, CT 06901. | https://msc.fema.gov/portal/advanceSearch. | Apr. 13, 2020 | 090015
Florida:
Hillsborough | City of Tampa (19-04-6204P). | The Honorable Jane Castor, Mayor, City of Tampa, 306 East Jackson Street, Tampa, FL 33602. | Development Services Center, 1400 North Boulevard, Tampa, FL 33607. | https://msc.fema.gov/portal/advanceSearch. | May 18, 2020 | 120114
Monroe | Unincorporated areas of Monroe County (20-04-0041P). | The Honorable Heather Carruthers, Mayor, Monroe County Board of Commissioners, 500 Whitehead Street, Suite 102, Key West, FL 33040. | Monroe County Building Department, 2798 Overseas Highway, Suite 300, Marathon, FL 33050. | https://msc.fema.gov/portal/advanceSearch. | Apr. 27, 2020 | 125129
Monroe | Unincorporated areas of Monroe County (20-04-0057P). | The Honorable Heather Carruthers, Mayor, Monroe County Board of Commissioners, 500 Whitehead Street, Suite 102, Key West, FL 33040. | Monroe County Building Department, 2798 Overseas Highway, Suite 300, Marathon, FL 33050. | https://msc.fema.gov/portal/advanceSearch. | Apr. 28, 2020 | 125129
Louisiana: St. Tammany | Unincorporated areas of St. Tammany Parish (19-06-0185P). | Mr. Michael B. Cooper, St. Tammany Parish President, 21490 Koop Drive, Mandeville, LA 70471. | St. Tammany Parish Department of Inspections and Enforcement, 21454 Koop Drive, Mandeville, LA 70471. | https://msc.fema.gov/portal/advanceSearch. | Apr. 16, 2020 | 225205
North Carolina:
Durham | City of Durham (19-04-5407P). | The Honorable Steve Schewel, Mayor, City of Durham, 101 City Hall Plaza, Durham, NC 27701. | Durham City-County Hall, 101 City Hall Plaza, Durham, NC 27701. | https://msc.fema.gov/portal/advanceSearch. | May 13, 2020 | 370086
Durham | Unincorporated areas of Durham County (19-04-5407P). | The Honorable Wendy Jones, Chair, Durham County Board of Commissioners, 200 East Main Street, Durham, NC 27701. | Durham City-County Hall, 101 City Hall Plaza, Durham, NC 27701. | https://msc.fema.gov/portal/advanceSearch. | May 13, 2020 | 370085
Guilford | City of High Point (19-04-4081P). | The Honorable Jay W. Wagner, Mayor, City of High Point , P.O. Box 230, High Point, NC 27261. | City Hall, 211 South Hamilton Street, High Point, NC 27261. | https://msc.fema.gov/portal/advanceSearch. | Apr. 17, 2020 | 370113
Oklahoma: Canadian | City of Oklahoma City (19-06-3335P). | The Honorable David Holt, Mayor, City of Oklahoma City, 200 North Walker Avenue, Oklahoma City, OK 73102. | Department of Public Works, 420 West Main Street, Suite 700, Oklahoma City, OK 73102. | https://msc.fema.gov/portal/advanceSearch. | Apr. 7, 2020 | 405378
South Carolina:
Charleston | City of Isle of Palms (19-04-6832P). | Ms. Desiree Fragoso, City of Isle of Palms Administrator, 1207 Palm Boulevard, Isle of Palms, SC 29451. | Building and Planning Department, 1207 Palm Boulevard, Isle of Palms, SC 29451. | https://msc.fema.gov/portal/advanceSearch. | May 4, 2020 | 455416
Georgetown | Unincorporated areas of Georgetown County (19-04-6806P). | Mr. Sel Hemingway, Georgetown County Administrator, 716 Prince Street, Georgetown, SC 29440. | Georgetown County Building Department, 129 Screven Street, Georgetown, SC 29440. | https://msc.fema.gov/portal/advanceSearch. | Apr. 30, 2020 | 450085
Texas:
Bexar | City of Live Oak (19-06-2060P). | The Honorable Mary M. Dennis, Mayor, City of Live Oak, 8001 Shin Oak Drive, Live Oak, TX 78233. | Public Works Department, 8001 Shin Oak Drive, Live Oak, TX 78233. | https://msc.fema.gov/portal/advanceSearch. | Apr. 20, 2020 | 480043
Bexar | City of San Antonio (18-06-1183P). | The Honorable Ron Nirenberg, Mayor, City of San Antonio, P.O. Box 839966, San Antonio, TX 78283. | Transportation and Capital Improvements Department, Storm Water Division, 114 West Commerce Street, 7th Floor, San Antonio, TX 78205. | https://msc.fema.gov/portal/advanceSearch. | Apr. 20, 2020 | 480045
Collin | City of Allen (19-06-3850P). | The Honorable Stephen Terrell, Mayor, City of Allen, 305 Century Parkway, 1st Floor, Allen, TX 75013. | Engineering and Traffic Department, 305 Century Parkway, Allen, TX 75013. | https://msc.fema.gov/portal/advanceSearch. | May 8, 2020 | 480131
Collin | City of Celina (19-06-2325P). | The Honorable Sean Terry, Mayor, City of Celina, 142 North Ohio Street, Celina, TX 75009. | City Hall, 142 North Ohio Street, Celina, TX 75009. | https://msc.fema.gov/portal/advanceSearch. | May 18, 2020 | 480133
Collin | Unincorporated areas of Collin County (19-06-2325P). | The Honorable Chris Hill, Collin County Judge, 2300 Bloomdale Road, Suite 4192, McKinney, TX 75071. | Collin County Engineering Department, 4690 Community Avenue, Suite 200, McKinney, TX 75071. | https://msc.fema.gov/portal/advanceSearch. | May 18, 2020 | 480130
Harris | Unincorporated areas of Harris County (19-06-1115P). | The Honorable Lina Hidalgo, Harris County Judge, 1001 Preston Street, Suite 911, Houston, TX 77002. | Harris County Engineering Department, 1001 Preston Street, 7th Floor, Houston, TX 77002. | https://msc.fema.gov/portal/advanceSearch. | Apr. 27, 2020 | 480287
Tarrant | City of Keller (19-06-3734P). | The Honorable Pat McGrail, Mayor, City of Keller, P.O. Box 770, Keller, TX 76244. | City Hall, 1100 Bear Creek Parkway, Keller, TX 76248. | https://msc.fema.gov/portal/advanceSearch. | Apr. 16, 2020 | 480602
Waller | Unincorporated areas of Waller County (19-06-1115P). | The Honorable Carbett “Trey” J. Duhon, III, Waller County Judge, 836 Austin Street, Suite 203, Hempstead, TX 77445. | Waller County Engineering Department, 775 Business Highway 290 East, Hempstead, TX 77445. | https://msc.fema.gov/portal/advanceSearch. | Apr. 27, 2020 | 480640

[FR Doc. 2020-02459 Filed 2-6-20; 8:45 am]

BILLING CODE 9110-12-P